DEPARTMENT OF HOMELAND SECURITY

Coast Guard

33 CFR Part 165

[CGD-13-04-033]

RIN 1625-AA87

Security Zone Regulations; Elliot Bay and Lake Washington, WA

AGENCY: Coast Guard, DHS.

ACTION: Temporary final rule.

SUMMARY: The Coast Guard is establishing temporary security zones around the M/V ARGOSY VIRGINIA 5, M/V ARGOSY CELEBRATIONS ANDP/C OLYMPUS while underway, anchored, or moored on Lake Washington, Washington. In addition, the Coast Guard is establishing temporary security zones around Pier 70 and Amgen located on Elliott Bay and the National Oceanographic and Atmospheric Administration (NOAA) Sandpoint Facility and Gates Residence located on Lake Washington. Entry into these zones is prohibited unless authorized by the Captain of the Port, Puget Sound or his designated representatives. The Coast Guard is establishing these temporary security zones around these waterways and these vessels to provide safety and security during the National Governors Association (NGA) Conference. The Captain of the Port, Puget Sound, Washington is taking this action to safeguard the dignitaries, official parties, VIP's and other participants (“attendees”) attending the NGA Conference from terrorism, sabotage, or other subversive acts. Entry into these zones is prohibited unless authorized by the Captain of the Port.

DATES: This rule is effective from 11 a.m on July 17, through 2 a.m. on July 19 2004, unless sooner cancelled by the Captain of the Port.

ADDRESSES: Documents as indicated in this preamble are available for inspection or copying at the U.S. Coast Guard Marine Safety Office Puget Sound, 1519 Alaskan Way South, Building 1, Seattle, Washington 98134. Normal office hours are between 8 a.m. and 4 p.m., Monday through Friday, except federal holidays.

FOR FURTHER INFORMATION CONTACT: LTJG T.D. Thayer, c/o Captain of the Port Puget Sound, 1519 Alaskan Way South, Seattle, Washington 98134, (206) 217-6230.

SUPPLEMENTARY INFORMATION:

Regulatory Information

We did not publish a notice of proposed rulemaking (NPRM) for this regulation. Under 5 U.S.C. 553(b)(B), the Coast Guard finds that good cause exists for not publishing an NPRM. Under 5 U.S.C. 553(d)(3), the Coast Guard finds that good cause exists for making this rule effective less than 30 days after publication in the Federal Register. Publishing a NPRM would be contrary to public interest. It is also in the public interest to have these regulations effective less than 30 days after publication. This rule is needed to provide for the security of the public, the NGA Conference and the conference attendees, and the safety of the waterways due to the potential for hostile and violent acts including from demonstrators protesting the NGA Conference. This Temporary Final Rule is necessary for the Coast Guard as well as other Federal, State and Local law enforcement officials to put appropriate security measures in place in time for the start of the NGA Conference. If normal notice and comment procedures were followed, national security could be compromised.

Background and Purpose

The Coast Guard is establishing temporary security zone regulations to safeguard designated vessels carrying NGA Conference attendees and the venue areas established for the attendees from potential terrorism, sabotage, or other subversive acts. These temporary security zones will mitigate these potential threats and are necessary to protect the public, conference attendees, law enforcement officers, maritime transportation infrastructure and the flow of commerce on these waterways. Representatives of the Captain of the Port Puget Sound, Washington will enforce these security zones. The Captain of the Port may be assisted by other federal, state and local agencies.

Discussion of Rule

This Temporary Final Rule establishes moving security zones around certain vessels that will be used to transport conference attendees. This Temporary Final Rule also establishes security zones in the navigable waters of the United States around four different venues located on Elliott Bay and Lake Washington. These security zones will control vessel movements in and around these zones and they are necessary to safeguard the NGA Conference attendees from terrorism, sabotage, or other subversive acts. The security zones established by this Temporary Final Rule are as follows: (1) All waters of Lake Washington, Washington State, within a 200 yard radius centered on the M/V ARGOSY VIRGINIA 5, M/V ARGOSY CELEBRATIONS AND P/C OLYMPUS while these vessels are underway, anchored, or moored; (2) all waters of Elliott Bay, Washington, within a 200 yard radius centered on 47°37.6′ N, 122°22.5′ W, near the Amgen facility, which is located between Pier 90/91 and the grain terminal; (3) all waters of Elliott Bay, Washington , within a 200 yard radius centered on 47°36.88′ N, 122°21.45′ W, which is the approximate location of the end of Pier 70; (4) all waters of Lake Washington, Washington State, within a 200 yard radius centered on 47°41.3′ N, 122°15.8′ W, which is the location of National Oceanographic and Atmospheric Administration's Sandpoint Facility; and (5) all waters of Lake Washington, Washington State, south of the Highway 520 floating bridge, which are enclosed by following points: 47°37′758″ N, 122°14′554″ W; 47°37′758″ N, 122°14′680″ W; 47°37′572″ N, 122°14′610″ W; 47°37′575″ N, 122°14′679″ W [Datum: NAD 1983]. Entry into these security zones is prohibited unless authorized by the Captain of the Port.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). The Coast Guard expects the economic impact of this regulation to be so minimal that a full Regulatory Evaluation under the regulatory policies and procedures of DHS is unnecessary. This expectation is based on the fact that this rule will be in effect for a short period of time.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. The Coast Guard certifies under 605(b) that this rule will not have a significant economic impact on a substantial number of small entities. This rule will affect the following entities, some of which may be small entities: The owners or operators of vessels intending to transit portions of Elliott Bay and Lake Washington. The security zone will not have a significant economic impact on a substantial number of small entities because of the limited areas these security zones cover and the short duration in time that they will be enforced. Because the impacts of this rule are so minimal, the Coast Guard certifies under 605(b) that this rule will not have a significant economic impact on a substantial number of small entities.

Assistance for Small Entities

Under section 213(a) of the Small Business Regulatory Enforcement Fairness Act of 1996 (Pub. L. 104-121), we want to assist small entities in understanding this rule so that they can better evaluate its effects on them and participate in the rulemaking. If the rule will affect your small business, organization, or governmental jurisdiction and you have questions concerning its provisions or options for compliance, please contact the person listed in the FOR FURTHER INFORMATION CONTACT section. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

The Coast Guard recognizes the rights of Native American Tribes under the Stevens Treaties. Moreover, the Coast Guard is committed to working with Tribal Governments to implement local policies to mitigate tribal concerns. We have determined that these security zones and fishing rights protection need not be incompatible. We have also determined that this Temporary Final Rule does not have tribal implications under Executive Order 13175, Consultation and Coordination with Indian Tribal Governments, because it does not have a substantial direct effect on one or more Indian tribes, on the relationship between the Federal Government and Indian tribes, or on the distribution of power and responsibilities between the Federal Government and Indian tribes. Nevertheless, Indian Tribes that have questions concerning the provisions of this Temporary Final Rule or options for compliance are encourage to contact the point of contact listed under FOR FURTHER INFORMATION CONTACT.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this rule under Commandant Instruction M16475.lD, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (34)(g) of the Instruction, from further environmental documentation. A final “Environmental Analysis Check List” and a final “Categorical Exclusion Determination” will be available in the docket where indicated under ADDRESSES.

List of Subjects in 33 CFR Part 165

Harbors, Marine safety, Navigation (water), Reporting and record keeping requirements, Security measures, Waterways.

For the reasons discussed in the preamble, the Coast Guard amends 33 CFR Part 165 as follows:

PART 165—[AMENDED]

1. The authority citation for Part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. A temporary § 165.T13-011 is added to read as follows:

§ 165.T13-011 Security Zone; Elliot Bay and Lake Washington, WA.

(a) Security Zones. The following are security zones:

(1) M/V ARGOSY VIRGINIA 5, M/V ARGOSY CELEBRATIONS and P/C OLYMPUS Security Zones: All waters of Lake Washington, Washington State, within a 200 yard radius centered on the M/V ARGOSY VIRGINIA 5, M/V ARGOSY CELEBRATIONS AND P/C OLYMPUS while underway, anchored, or moored. The security zone around these vessels will be enforced from 11 a.m. on July 17, 2004, until 2 a.m. on July 18, 2004.

(2) Amgen Security Zone: All waters of Elliott Bay, Washington, within a 200 yard radius centered on 47°37.6′ N, 122°22.5′ W [Datum: NAD 1983]. The security zone around the Amgen facility will be enforced from 11 a.m. on July 18, 2004, until 2 a.m. on July 19, 2004.

(3) Pier 70 Security Zone: All waters of Elliott Bay, Washington, within a 200 yard radius centered on 47°36.88′ N, 122°21.45′ W [Datum: NAD 1983]. The security zone around Pier 70 will be enforced from 11 a.m. on July 17, 2004, until 2 a.m. on July 18, 2004.

(4) National Oceanographic and Atmospheric Administration (NOAA) Sandpoint Facility Security Zone: All waters of Lake Washington, Washington State, within a 200 yard radius centered on 47°41.3′ N, 122°15.8′ W [Datum: NAD 1983]. The security zone around the NOAA Sandpoint facility will be enforced from 11 a.m. on July 17, 2004, until 2 a.m. on July 18, 2004.

(5) Gates Residence Security Zone: All waters of Lake Washington, Washington State, south of the Highway 520 floating bridge, which are enclosed by following points: 47°37′758″ N, 122°14′554″ W; 47°37′758″ N, 122°14′680″ W; 47°37′572″ N, 122°14′610″ W; 47°37′575″ N, 122°14′679″ W [Datum: NAD 1983]. The Gates residence security zone will be enforced from 11 a.m. on July 17, 2004, until 2 a.m. on July 18, 2004.

(b) Regulations. In accordance with the general regulations in 33 CFR part 165, subpart D, this section applies to any person or vessel in the navigable waters of the United States. No person or vessel may enter or remain in the above security zone, unless authorized by the Captain of the Port or his designated representatives. Vessels and persons granted authorization to enter the security zone shall obey all lawful orders or directions of the Captain of the Port or his designated representative.

(c) Effective period. This section is effective from 11 a.m. on July 17, 2004, until 2 a.m. on July 19, 2004, unless sooner cancelled by the Captain of the Port.

Dated: July 8, 2004.
D. Ellis,
Captain, U.S. Coast Guard, Captain of the Port, Puget Sound.

[FR Doc. 04-15959 Filed 7-9-04; 2:46 pm]

BILLING CODE 4910-15-P